DEPARTMENT OF TRANSPORTATION

Federal Aviation Administration

Agency Information Collection Activity Under OMB Review, Request for Comments; Renewal of an Approved Information Collection Activity, Operating Requirements: Domestic, Flag, and Supplemental Operations, Part 121

AGENCY: Federal Aviation Administration (FAA), DOT.

ACTION: Notice and request for comments.

SUMMARY: The FAA invites public comments about our intention to request the Office of Management and Budget's (OMB) renewal of a current information collection. The Federal Register Notices with a 60-day comment period soliciting comments on the following collection of information was published on July 27, 2005, vol. #143, pages 43502-43503. 14 CFR Part 121 prescribes the requirements governing air carrier operations. The information collected is used to determine air operators' compliance with the minimum safety standards set out in the regulation and the applicant's eligibility for air operations certification.

DATES: Please submit comments by January 3, 2006.

FOR FURTHER INFORMATION CONTACT: Judy Street on (202) 267-9895.

SUPPLEMENTARY INFORMATION:

Federal Aviation Administration (FAA)

Title: Operating Requirements: Domestic, Flag, and Supplemental Operations, Part 121.

Type of Request: Renewal of an approved collection.

OMB Control Number: 2120-0008.

Forms(s): A total of 100 Part 121 Aircraft Operators.

Frequency: The information is conducted on an as-needed basis.

Estimated Average Burden Per Response: There are 33 different sections of the Part 121 regulation requiring a paperwork burden covered by this collection, with varying burden per response.

Estimated Annual Burden Hours: An estimated 1,298,589 hours annually.

Abstract: 14 CFR Part 121 prescribes the requirements governing air carrier operations. The information collected is used to determine air operators' compliance with the minimum safety standards set out in the regulation and the applicant's eligibility for air operations certification.

ADDRESSES: Send comments to the Office of Information and Regulatory Affairs, Office of Management and Budget, 725 17th Street, NW., Washington, DC 20503, Attention FAA Desk Officer.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington DC, on November 21, 2005.
Judith D. Street,
FAA Information Collection Clearance Officer, Information Systems and Technology Services Staff, ABA-20.

[FR Doc. 05-23527 Filed 11-30-05; 8:45am]

BILLING CODE 4910-13-M